DEPARTMENT OF ENERGY

Federal Energy Regulatory Commission

Combined Notice of Filings

Take notice that the Commission has received the following Natural Gas Pipeline Rate and Refund Report filings:

Filings Instituting Proceedings

Docket Numbers: RP25-567-000.

Applicants: Double E Pipeline, LLC.

Description: Compliance filing: Double E Pipeline Cost and Revenue Study.

Filed Date: 2/14/25.

Accession Number: 20250214-5220.

Comment Date: 5 p.m. ET 2/26/25.

Docket Numbers: RP25-568-000.

Applicants: Transcontinental Gas Pipe Line Company, LLC.

Description: § 4(d) Rate Filing: DPEs—SRE Project In-Service to be effective 3/20/2025.

Filed Date: 2/18/25.

Accession Number: 20250218-5003.

Comment Date: 5 p.m. ET 3/3/25.

Docket Numbers: RP25-569-000.

Applicants: Black Hills Shoshone Pipeline, LLC.

Description: § 4(d) Rate Filing: Black Hills Shoshone 2025 LAUF Filing to be effective 4/1/2025.

Filed Date: 2/18/25.

Accession Number: 20250218-5005.

Comment Date: 5 p.m. ET 3/3/25.

Docket Numbers: RP25-570-000.

Applicants: Viking Gas Transmission Company.

Description: § 4(d) Rate Filing: Negotiated Rate PAL and Administrative Filing to be effective 2/15/2025.

Filed Date: 2/18/25.

Accession Number: 20250218-5091.

Comment Date: 5 p.m. ET 3/3/25.

Docket Numbers: RP25-571-000.

Applicants: Crossroads Pipeline Company LLC.

Description: Compliance filing: Annual Report of Operational Transactions 2025 to be effective N/A.

Filed Date: 2/18/25.

Accession Number: 20250218-5109.

Comment Date: 5 p.m. ET 3/3/25.

Docket Numbers: RP25-572-000.

Applicants: Empire Pipeline, Inc.

Description: Compliance filing: Refund Report Jan-Dec 2024 (Per Settlement in RP18-940) to be effective N/A.

Filed Date: 2/18/25.

Accession Number: 20250218-5111.

Comment Date: 5 p.m. ET 3/3/25.

Docket Numbers: RP25-573-000.

Applicants: Columbia Gas Transmission, LLC.

Description: Compliance filing: Annual Report of Operational Transactions 2025 to be effective N/A.

Filed Date: 2/18/25.

Accession Number: 20250218-5112.

Comment Date: 5 p.m. ET 3/3/25.

Docket Numbers: RP25-574-000.

Applicants: Columbia Gulf Transmission, LLC.

Description: Compliance filing: Annual Report of Operational Transactions 2025 to be effective N/A.

Filed Date: 2/18/25.

Accession Number: 20250218-5123.

Comment Date: 5 p.m. ET 3/3/25.

Docket Numbers: RP25-575-000.

Applicants: Hardy Storage Company, LLC.

Description: Compliance filing: Annual Report of Operational Transactions 2025 to be effective N/A.

Filed Date: 2/18/25.

Accession Number: 20250218-5127.

Comment Date: 5 p.m. ET 3/3/25.

Docket Numbers: RP25-576-000.

Applicants: Millennium Pipeline Company, LLC.

Description: Compliance filing: Annual Report of Operational Transactions 2025 to be effective N/A.

Filed Date: 2/18/25.

Accession Number: 20250218-5167.

Comment Date: 5 p.m. ET 3/3/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP25-419-001.

Applicants: Gulf Run Transmission, LLC.

Description: Compliance filing: NAESB Version 4.0 Compliance Filing—Corrected to be effective 8/1/2025.

Filed Date: 2/18/25.

Accession Number: 20250218-5090.

Comment Date: 5 p.m. ET 3/3/25.

Docket Numbers: RP25-557-001.

Applicants: Guardian Pipeline, L.L.C.

Description: Tariff Amendment: Amendment to Negotiated Rate PALs to be effective 2/12/2025.

Filed Date: 2/18/25.

Accession Number: 20250218-5101.

Comment Date: 5 p.m. ET 3/3/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 18, 2025.
Carlos D. Clay,
Deputy Secretary.

[FR Doc. 2025-03018 Filed 2-24-25; 8:45 am]

BILLING CODE 6717-01-P